DEPARTMENT OF HEALTH AND HUMAN SERVICES

Administration for Children and Families

[OMB No.: 0970-0351]

Submission for OMB Review; Comment Request; State Plan for Grants to States for Refugee Resettlement

Description: A State Plan is required by 8 U.S.C. 1522 of the Immigration and Nationality Act (the Act) [Title IV, Sec. 412 of the Act] for each State agency requesting Federal funding for refugee resettlement under 8 U.S.C. 524 [Title IV, Sec. 414 of the Act], including Refugee Cash and Medical Assistance, Unaccompanied Minor Refugee Program, Refugee Social Services, and Targeted Assistance program funding. The State Plan is a comprehensive narrative description of the nature and scope of a States programs and provides assurances that the programs will be administered in conformity with the specific requirements stipulated in 45 CFR 400.4-400.9. The State Plan must include all applicable State procedures, designations, and certifications for each requirement as well as supporting documentation.

The plan assures ORR that the State is capable of administering refugee assistance and coordinating employment and other social services for eligible caseloads in conformity with specific requirements. ORR proposes organizational and formatting changes to make the checklist more accessible to the user. Additionally, ORR proposes streamlining language to make the checklist easier to read. These proposed changes include technical corrections to regulatory citations. ORR proposes removing a number of requirements, including an assurance regarding the inclusion of refugee resettlement programs in pandemic influenza emergency plans and a basic description of providers conducting medical screening. ORR proposes to remove a requirement that all states describe a plan for the care, supervision of, and legal responsibility for, refugee children who become unaccompanied in the state. ORR also proposes to remove requirements specific to the Cuban/Haitian entrants and replace them with an assurance that states will provide all ORR-eligible populations with the benefits and services described in the State Plan.

ORR proposes adding language to clarify the following requirements related to the Unaccompanied Refugee Minors (URM) program: State policy on education and training vouchers, medical coverage, the location of URM providers, monitoring procedures, the process for establishing legal responsibility, and information about sub-contractors.

States must use a pre-print format for required components of State Plans for ORR-funded refugee resettlement services and benefits prepared by the Office of Refugee Resettlement (ORR) of the Administration for Children and Families (ACF).

States must submit by August 15 each year new or amended State Plan for the next Federal fiscal year. For previously approved plan, States must certify no later than October 31 each year that the approved State plan is current and continues in effect.

Respondents: State Agencies, the District of Columbia, Replacement Designees under 45 CFR 400.301(c), and Wilson-Fish Grantees (State 2 Agencies) administering or supervising the administration of programs under Title IV of the Act.

Annual Burden Estimates
Instrument | Number of respondents | Number of responses per respondent | Average burden hours per response | Total burden hours
Title IV State Plan | 57 | 1 | 15 | 855

Estimated Total Annual Burden Hours: 855.

Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment:OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-20649 Filed 9-26-17; 8:45 am]

BILLING CODE 4184-45-P